DEPARTMENT OF COMMERCE

National Oceanic and Atmospheric Administration

RIN 0648-XA306

Endangered Species; File Nos. 16266 and 16291

AGENCY: National Marine Fisheries Service (NMFS), National Oceanic and Atmospheric Administration (NOAA), Commerce.

ACTION: Notice; receipt of application.

SUMMARY: Notice is hereby given that the Virginia Living Museum, 524 J. Clyde Morris Boulevard, Newport News, VA, 23602 [Chris Crippen, Responsible Party], and the Maritime Aquarium at Norwalk, 10 North Water Street, South Norwalk, CT, 06854 [Ellen Riker, Responsible Party], have applied in due form for permits to hold and transport shortnose sturgeon (Acipenser brevirostrum) for the purposes of enhancement.

DATES: Written, telefaxed, or e-mail comments must be received on or before April 20, 2011.

ADDRESSES: The application and related documents are available for review by selecting “Records Open for Public Comment” from the Features box on the Applications and Permits for Protected Species (APPS) home page, https://apps.nmfs.noaa.gov, and then selecting File No. 16291 or 16266 from the list of available applications.

These documents are also available upon written request or by appointment in the following office(s):

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

Written comments on this application should be submitted to the Chief, Permits, Conservation and Education Division, at the address listed above. Comments may also be submitted by facsimile to (301) 713-0376, or by e-mail to NMFS.Pr1Comments@noaa.gov. Please include the File No. 16291 and/or 16266 in the subject line of the e-mail comment.

Those individuals requesting a public hearing should submit a written request to the Chief, Permits, Conservation and Education Division at the address listed above. The request should set forth the specific reasons why a hearing on this application would be appropriate.

FOR FURTHER INFORMATION CONTACT: Colette Cairns or Jennifer Skidmore, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The Virginia Living Museum [File No. 16266] is requesting a permit to continue enhancement activities previously authorized under Permit No. 1473. Activities would include the continued maintenance and educational display of eight captive-bred, non-releaseable adult shortnose sturgeon, as well as the transport of four shortnose sturgeon to the Maritime Aquarium at Norfolk. The Maritime Aquarium at Norwalk [File No. 16291] is requesting a permit to continue enhancement activities previously authorized under Permit No. 1472. Activities would include the acquisition of four captive-bred, non-releaseable adult shortnose sturgeon from the Virginia Living Museum for the maintenance and educational display of those specimens. Both displays would be used to increase public awareness of the shortnose sturgeon and its status by educating the public on shortnose sturgeon life history and the reasons for the species decline. The proposed projects to display endangered cultured shortnose sturgeon responds directly to a recommendation from the NMFS recovery plan outline for this species. The permits would not authorize any takes from the wild, nor would it authorize any release of captive sturgeon into the wild. The permits are requested for a duration of 5 years.

Dated: March 15, 2011.
P. Michael Payne,
Chief, Permits, Conservation and Education Division, Office of Protected Resources, National Marine Fisheries Service.

[FR Doc. 2011-6582 Filed 3-18-11; 8:45 am]

BILLING CODE 3510-22-P